DEPARTMENT OF THE INTERIOR

Bureau of Indian Affairs

[AAK4004200/A0R5C4040.999900/134A2100DD]

Proclaiming Certain Lands as Reservation for the Muckleshoot Indian Tribe of Washington State

AGENCY: Bureau of Indian Affairs, Interior.

ACTION: Notice of Reservation Proclamation.

SUMMARY: This notice informs the public that the Assistant Secretary—Indian Affairs proclaimed approximately 20.16 acres, more or less, as an addition to and becoming a part of the Reservation of the Muckleshoot Indian Tribe on 2/24/14 .

This notice is published in the exercise of authority delegated by the Secretary of the Interior to the Assistant Secretary—Indian Affairs by part 209 of the Departmental Manual.

FOR FURTHER INFORMATION CONTACT: Matthew Kirkland, Bureau of Indian Affairs, Division of Real Estate Services, MS-4639-MIB, 1849 C Street NW., Washington, DC 20240, telephone (202) 208-3615.

SUPPLEMENTARY INFORMATION: A proclamation was issued according to the Act of June 18, 1934 (48 Stat. 986; 25 U.S.C. 467), for the tract of land described below. The land was proclaimed to be an addition to and part of the Reservation of the Muckleshoot Indian Tribe for the exclusive use of Indians on that reservation who are entitled to reside at the reservation by enrollment or tribal membership.

Reservation of the Muckleshoot Indian Tribe

King County, Washington

The legal description of the property including 20.16 acres is:

The east 957 feet of the northwest quarter of the southeast quarter; LESS the south 480 feet of the east 40 feet; AND LESS that portion lying south of State Highway #5; AND LESS the north 456 feet of the east 957 feet, ALL in the northwest quarter of the southeast quarter of Section 35, Township 21 north, Range 5 east, W.M.; LESS county roads, ALL in King County, Washington.

and

The North 456 feet of the East 957 feet of the Northwest quarter of the Southeast quarter of the Section 35, Township 21 North, Range 5 East, W.M., in King County, Washington; Except the East 191 feet thereof; and Except the North 30 feet thereof for South 376th Street.

This proclamation does not affect title to the land described above, nor does it affect any valid existing easements for public roads and highways, public utilities and for railroads and pipelines and any other rights-of-way or reservations of record.

Dated: February 24, 2014.
Kevin K. Washburn,
Assistant Secretary—Indian Affairs.

[FR Doc. 2014-04846 Filed 3-4-14; 8:45 am]

BILLING CODE 4310-W7-P